FEDERAL COMMUNICATIONS COMMISSION

Public Safety and Homeland Security Bureau; Federal Advisory Committee Act; Task Force on Optimal Public Safety Answering Point Architecture

AGENCY: Federal Communications Commission.

ACTION: Notice of public meeting.

SUMMARY: In accordance with the Federal Advisory Committee Act (FACA), this notice advises interested persons that the Federal Communications Commission's (FCC) Task Force on Optimal Public Safety Answering Point (PSAP) Architecture (Task Force) will hold its seventh meeting.

DATES: May 6, 2016.

ADDRESSES: Federal Communications Commission, Room TW-C305 (Commission Meeting Room), 445 12th Street SW., Washington, DC 20554.

FOR FURTHER INFORMATION CONTACT: Timothy May, Federal Communications Commission, Public Safety and Homeland Security Bureau, 202-418-1463, email: timothy.may@fcc.gov.

SUPPLEMENTARY INFORMATION: The meeting will be held on May 6, 2016, from 1:00 p.m. to 4:00 p.m. in the Commission Meeting Room of the FCC, Room TW-305, 445 12th Street SW., Washington, DC 20554. The Task Force is a Federal Advisory Committee that studies and reports findings and recommendations on PSAP structure, architecture, operations, and funding to promote greater efficiency of PSAP operations, security, and cost containment during the deployment of Next Generation 911 systems. On December 2, 2014, pursuant to the FACA, the Commission established the Task Force charter for a period of two years, through December 2, 2016. At this meeting, the Task Force will hear overview presentations of 2016 tasks from the Task Force's three working groups; specifically Working Group 1—Optimal Approach to Cybersecurity, Working Group 2—Optimal Approach to NG911 Architecture Implementation, and Working 3—Optimal Approach to NG911 Resource Allocation.

Members of the general public may attend the meeting. The FCC will attempt to accommodate as many attendees as possible; however, admittance will be limited to seating availability. The Commission will provide audio and/or video coverage of the meeting over the Internet from the FCC's Web page at https://www.fcc.gov/general/live.

Open captioning will be provided for this event. Other reasonable accommodations for people with disabilities are available upon request. Requests for such accommodations should be submitted via email to fcc504@fcc.gov or by calling the Consumer & Governmental Affairs at (202) 418-0432 (TTY). Such requests should include a detailed description of the accommodation requested. In addition, please include a way the FCC may contact you if it needs more information. Please allow at least five days' advance notice; last minute requests will be accepted, but may be impossible to fill.

Federal Communications Commission.
Marlene H. Dortch,
Secretary.

[FR Doc. 2016-08438 Filed 4-12-16; 8:45 am]

BILLING CODE 6712-01-P